EQUAL EMPLOYMENT OPPORTUNITY COMMISSION

29 CFR Parts 1601 and 1626

RIN 3046-AB07

Procedural Regulations Under Title VII, ADA, and GINA; Procedures—Age Discrimination in Employment Act

AGENCY: Equal Employment Opportunity Commission.

ACTION: Notice of proposed rulemaking.

SUMMARY: The Equal Employment Opportunity Commission (EEOC or Commission) is proposing to amend its procedural regulations to explicitly provide for digital transmissions of documents, to clarify the process for deferral to state and local agencies, to update no cause determination procedures, and to correct typographical errors.

DATES: Comments on the notice of proposed rulemaking must be received on or before April 23, 2019.

ADDRESSES: You may submit comments by any of the following methods—please use only one method:

• Federal eRulemaking Portal: http://www.regulations.gov. Follow the instructions on the website for submitting comments.

• Mail: Comments may be submitted by mail to Bernadette B. Wilson, Executive Officer, Executive Secretariat, Equal Employment Opportunity Commission, 131 M Street NE, Washington, DC 20507.

• Fax: Comments totaling six or fewer pages can be sent by facsimile (“fax”) machine to (202) 663-4114. (This is not a toll-free number.) Receipt of fax transmittals will not be acknowledged, except that the sender may request confirmation of receipt by calling the Executive Secretariat staff at (202) 663-4070 (voice) or 800-669-6820 (TTY). (These are not toll-free telephone numbers.)

Instructions: All comments received must include the agency name or Regulatory Information Number (RIN) for this rulemaking. All comments received will be posted without change to http://www.regulations.gov, including any personal information provided. However, the EEOC reserves the right to refrain from posting libelous or otherwise inappropriate comments, including those that contain obscene, indecent, or profane language; that contain threats or defamatory statements; that contain hate speech directed at race, color, sex, national origin, age, religion, disability, or genetic information; or that promote or endorse services or products.

All comments received, including any personal information provided, also will be available for public inspection during normal business hours by appointment only at the EEOC Headquarters' Library, 131 M Street NE, Washington, DC 20507. Upon request, individuals who require assistance viewing comments are provided appropriate aids such as readers or print magnifiers. To schedule an appointment to inspect the comments at the EEOC's library, contact the library staff at (202) 663-4630 (voice) or 800-669-6820 (TTY). (These are not toll-free numbers.)

FOR FURTHER INFORMATION CONTACT: Kathleen Oram, Assistant Legal Counsel, (202) 663-4681 (voice) or kathleen.oram@eeoc.gov; Erin Norris, Senior Attorney, Office of Legal Counsel, (704) 954-6491 or erin.norris@eeoc.gov.

SUPPLEMENTARY INFORMATION:

Digital Submissions of Charge Documents

The Equal Employment Opportunity Commission is building a fully digital system for charges of discrimination filed with the EEOC. The system enables the EEOC, charging parties who file charges, and respondents against whom charges are filed to communicate and to transmit documents, including notices of charges, digitally through a secure online portal. It allows potential charging parties to submit online inquiries to the EEOC and to schedule intake interviews through the online system. The EEOC now has the capacity to make its charge processing and records system fully digital. In furtherance of that effort, the EEOC proposes to amend portions of its regulations in 29 CFR parts 1601 and 1626 to explicitly provide for digital or online transmission of charge-related documents. Specifically, the EEOC proposes to amend the following sections to explicitly provide for digital transmission and service of EEOC documents: Sections 1601.3 Other definitions, 1601.8 Where to make a charge, 1601.13(a)(4)(i)(A) and (B) Filing; deferrals to State and local agencies, 1601.14(a) Service of charge or notice of charge, 1601.21, Reasonable cause determination: Procedure and authority, 1626.5 Where to submit complaints and charges, 1626.7(b) Timeliness of charge, and 1626.15(c) Commission enforcement.

Deferrals to State and Local Agencies

The EEOC proposes to clarify the application of the charge-filing time periods for charges arising in jurisdictions having a State or local fair employment practice (FEP) agency. Under section 706(e)(1) of Title VII of the Civil Rights Act of 1964, charging parties have 300 days after the alleged unlawful employment practice occurred to file a charge in jurisdictions having an FEP agency with authority to grant or seek relief from such practice. Charging parties have 180 days in jurisdictions with no FEP agency. 42 U.S.C. 2000e-5(e)(1). The EEOC's regulations address the circumstances in which an FEP agency exists but does not have jurisdiction over the particular basis of discrimination alleged in the charge (for example, if the FEP agency does not have authority to investigate sex discrimination), and provide that when such a charge is filed, it is treated as being filed in a jurisdiction having no FEP agency and thus is timely filed only if received within 180 days. Currently, the regulation uses the phrase, “without subject matter jurisdiction over a charge” to describe such a situation. The proposed revision replaces “subject matter jurisdiction over a charge” with “jurisdiction over the statutory basis alleged in the charge” in §§ 1601.13(a)(2) and (3).

In some instances, respondents have argued that even though a charge alleges the same type or basis of discrimination prohibited by state law, such as disability discrimination, it is untimely because the state law would not have applied to the particular circumstances or theory of relief, such as a failure to accommodate theory. The EEOC believes that this interpretation is incorrect and unworkable. Charging parties may assert multiple theories of relief or related claims, or may not know what theory ultimately will apply to their statutory claims, and it would be inappropriate to require an evaluation of the merits of the charge in light of state law before deciding what filing deadline applies. Conditioning the timeliness of their filing on the interpretation of “complicated issues of state law” would be contrary to the Supreme Court's decision in EEOC v. Commercial Office Products Co., 486 U.S. 107, 123-24 (1988). The Supreme Court discouraged interpreting the filing periods in ways that would involve the interpretation of “complicated issues of state law” particularly because in discrimination cases, “laymen, unassisted by trained lawyers, initiate the process.” The Court emphasized that rules should be “both easily understood by complainants and easily administered by the EEOC.” See id. at 124. The proposed revision to §§ 1601.13(a)(2) and (3) thus expresses more clearly that the charge-filing time period is determined simply by looking to the general bases on which the FEP agency's statute prohibits discrimination. Thus, if the FEP agency's statute covers the same general basis or category of discrimination alleged by the charging party (for example, age or disability discrimination), the charging party has 300 days to file a charge. This information about the FEP agency's general statutory coverage will normally be readily available to the public, and it will be easier for charging parties to determine which filing deadline applies.

Clarity of the Communication Closing an Investigation and Delegation

The EEOC proposes changes to §§ 1601.18(a) and 1601.19(a) to serve two purposes: (1) To more clearly communicate to charging parties and respondents the import of the EEOC's decision to close a charge investigation, and (2) to bring greater efficiencies to charge closures by permitting further delegation.

Clarity of Communication

The EEOC proposes to amend § 1601.18(a) to add language clearly communicating that a dismissal includes notice of the charging party's statutory right to file a lawsuit.

The EEOC also proposes to amend § 1601.19(a) to add language clarifying the meaning and import of the EEOC's issuance of a “no cause” determination. Some have misunderstood the “no cause determination” and the language in the EEOC's current “Dismissal and Notice of Rights.” Hence, the EEOC proposes to revise 1601.19(a) to more clearly communicate that the EEOC's “no cause” closure of a charge does not mean the claims have no merit. The purpose of this proposed amendment is to ensure that charging parties, respondents, and courts understand that the extent of an EEOC investigation can vary widely from charge to charge, and therefore should not be viewed as a final evaluation of whether discrimination occurred or is occurring. The EEOC recognizes that, even after the EEOC has decided not to proceed further with its investigation, private proceedings or litigation may lead to court findings of discrimination or settlements favorable to charging parties.

Similarly, parties can misunderstand the meaning of the language in the EEOC's current “Dismissal and Notice of Rights;” therefore, the EEOC also proposes to revise the language on this form to clarify its purpose. The current language in the EEOC's “Dismissal and Notice of Rights” states:

“The EEOC issues the following determination: Based on its investigation, the EEOC is unable to conclude that the information obtained establishes violations of the statutes. This does not certify that the respondent is in compliance with the statutes. No finding is made as to any other issues that might be construed as having been raised by this charge.”

The EEOC proposes to revise the above language to read as follows:

“The EEOC issues the following determination: Based on its investigation, the EEOC has sufficient information to conclude that further investigation is not likely to result in a cause finding. This does not certify that the respondent is in compliance with the statutes. The EEOC makes no finding as to the merits of any issues that might be construed as having been raised by this charge.”

The Commission does not propose to make the form part of the regulation, but invites public comment on the above-proposed revised “Dismissal and Notice of Rights” language.

Delegation of Authority To Issue “Dismissal and Notice of Rights”

The EEOC proposes to amend §§ 1601.18(b) and 1601.19(a) to allow District, Field, Area, and Local Office Directors to delegate to “their designees” their authority to issue a “Dismissal and Notice of Rights.” This change will permit EEOC employees other than office directors to issue dismissals and determinations, freeing office directors' time for other enforcement efforts.

Agency experience has shown that this level of delegation is appropriate. Established procedures and quality standards will support the increased efficiencies gained by permitting this delegation, while ensuring continued focus on charges that may lead to determinations of reasonable cause. In concert with that change, the EEOC proposes to amend § 1601.19(b) to permit the director of an office issuing a “Dismissal and Notice of Rights” to reconsider that determination, upon request or on his or her own initiative, and to issue a notice of intent to reconsider. In those instances where an EEOC employee other than the office director issues a “Dismissal and Notice of Rights,” only the office director will have authority to reconsider the determination.

As noted above, determinations are contained in a document titled “Dismissal and Notice of Rights” because they combine the no cause determination with the notice of right to sue under § 1601.19. Accordingly, the EEOC proposes to remove the term “letter of” wherever it precedes the word “determination” in § 1601.19 No cause determinations: Procedure and authority.

Miscellaneous Updates

The EEOC proposes the following clarifying changes and updates to the regulations:

1. In § 1601.2 adding “as amended” to “the Americans with Disabilities Act of 1990”;

2. In § 1601.3 removing Maryland from the area served by the Washington Field Office to reflect field office restructuring that occurred in 2006;

3. In § 1601.4 replacing “Vice Chairman” and “Chairman” with the current titles “Vice Chair” and “Chair” and replacing “disability” with “incapacity”;

4. In § 1601.5 correcting typographical errors by replacing “field” with “field office” and “area” with “area office”;

5. In §§ 1601.7(a) and (b), 1601.12, and 1626.8, replacing references to “address and telephone number” and “address” with the more general “contact information”;

6. In § 1601.16(b) identifying two kinds of petitions to revoke or modify subpoenas to clarify that such petitions should be served on the issuing director except that, if the subpoena was issued by a Commissioner, the petition should be served on the General Counsel;

7. In § 1601.16(d) replacing the misspelled word “Council” with “Counsel”;

8. In § 1601.21(d) replacing the words “a copy of the determination” with “the determination or a copy of the determination” to allow for digital transmission;

9. In § 1601.28(c) removing an obsolete footnote;

10. In § 1601.28(e)(3) replacing “A copy of the charge” with “The charge or a copy of the charge” to allow for digital transmission;

11. In § 1601.70(a)(1) adding genetic information to the list of prohibited bases of discrimination;

12. In § 1601.75(b)(2) updating an office title and removing an obsolete reference to Order 916;

13. In § 1601.76 and 1601.78 removing an obsolete reference to Order 916;

14. In § 1626.15(c) replacing “A copy of the signed agreement” with “The signed agreement or a copy of the signed agreement” to allow for digital transmission;

15. In § 1626.15(e) and 1626.16(b) replacing “Field Directors” with “Field Directors, Area Directors, and Local Directors”; and

16. In § 1626.17(a)(2) adding a reference to the Genetic Information Nondiscrimination Act.

Regulatory Procedures

Executive Order 12866

This is not a “significant regulatory action” within the meaning of section 3 of Executive Order 12866.

Paperwork Reduction Act

This regulation contains no new information collection requirements subject to review by the Office of Management and Budget under the Paperwork Reduction Act (44 U.S.C. chapter 35).

Regulatory Flexibility Act

The Commission certifies under 5 U.S.C. 605(b) that this rule will not have a significant economic impact on a substantial number of small entities because it primarily affects the EEOC. To the extent that it affects small entities by allowing for electronic transmission of documents, it will save resources of those entities.

Unfunded Mandates Reform Act of 1995

This proposed rule will not result in the expenditure by State, local, or tribal governments, in the aggregate, or by the private sector, of $100 million or more in any one year, and it will not significantly or uniquely affect small governments. Therefore, no actions were deemed necessary under the provisions of the Unfunded Mandates Reform Act of 1995.

Congressional Review Act

This action concerns agency organization, procedure, or practice that does not substantially affect the rights or obligations of non-agency parties and, accordingly, is not a “rule” as that term is used by the Congressional Review Act (Subtitle E of the Small Business Regulatory Enforcement Fairness Act of 1996 (SBREFA)). Therefore, the reporting requirement of 5 U.S.C. 801 does not apply.

List of Subjects in 29 CFR Parts 1601 and 1626

Administrative practice and procedure, Equal employment opportunity.

Approved by the Commission December 4, 2018.
Dated: February 12, 2019.
For the Commission.
Victoria A. Lipnic,
Acting Chair.

Accordingly, for the reasons set forth in the preamble, the Equal Employment Opportunity Commission proposes to amend 29 CFR parts 1601 and 1626 as follows:

PART 1601—PROCEDURAL REGULATIONS

1. The authority citation for part 1601 continues to read as follows:

Authority: 42 U.S.C. 2000e to 2000e-17; 42 U.S.C. 12111 to 12117; 42 U.S.C. 2000ff to 2000ff-11.

2. Amend § 1601.2 by revising the second sentence to read as follows:

§ 1601.2 Terms defined in title VII of the Civil Rights Act, the Americans with Disabilities Act, and the Genetic Information Nondiscrimination Act.

* * * The term disability shall have the meaning set forth in section 3 of the Americans with Disabilities Act, as amended. * * *

3. Amend § 1601.3 by:

a. Removing the words “and surrounding Maryland” from paragraph (a);

b. Redesignating paragraph (b) as paragraph (c); and

c. Adding a new paragraph (b).

The addition reads as follows:

§ 1601.3 Other definitions.

* * * * *

(b) For the purposes of this part, the terms file, serve, submit, receive, transmit, present, send, and notify shall include all forms of digital transmission.

* * * * *

4. Revise § 1601.4 to read as follows:

§ 1601.4 Vice Chair's functions.

The member of the Commission designated by the President to serve as Vice Chair shall act as Chair in the absence or incapacity of the Chair or in the event of a vacancy in that office.

5. Amend § 1601.5 by revising the section heading and the sixth and eighth sentences to read as follows:

§ 1601.5 District; field; area; local authority.

* * * The term “field director” shall refer to that person designated as the Commission's chief officer in each field office. * * * The term “area director” shall refer to that person designated as the Commission's chief officer in each area office. * * *

6. Amend § 1601.7 by revising the fourth sentence of paragraph (a) and paragraph (b) to read as follows:

§ 1601.7 Charges by or on behalf of persons claiming to be aggrieved.

(a) * * * The person making the charge, however, must provide the Commission with the name and contact information of the person on whose behalf the charge is made. * * *

(b) The person claiming to be aggrieved has the responsibility to provide the Commission with notice of any change in contact information so that the Commission may communicate with him or her during the Commission's consideration of the charge.

7. Revise § 1601.8 to read as follows:

§ 1601.8 Where to make a charge.

A charge may be made using the EEOC's designated digital system, in person, or by mail to any EEOC office or to any designated representative of the Commission. The addresses of the EEOC's offices appear at www.eeoc.gov.

8. Amend § 1601.12 by revising paragraphs (a)(1) and (2) to read as follows:

§ 1601.12 Contents of charge; amendment of charge.

(a) * * *

(1) The full name and contact information of the person making the charge except as provided in § 1601.7;

(2) The full name and contact information of the person against whom the charge is made, if known (hereinafter referred to as the respondent);

* * * * *

9. Amend § 1601.13 by:

a. Revising paragraphs (a)(2) and (3), (a)(4) introductory text, (a)(4)(i)(A) and (a)(4)(i)(B);

b. Removing the word “filing” and adding in its place the word “filed” in the second sentence of paragraph (a)(4)(ii)(B); and

c. Removing the word “certified” and adding in its place the word “registered” in paragraph (b)(2)(iii).

The revisions read as follows:

§ 1601.13 Filing; deferrals to State and local agencies.

(a) * * *

(2) A jurisdiction having a FEP agency without jurisdiction over the statutory basis alleged in the charge (e.g., an agency that does not have enforcement authority over sex discrimination) is equivalent to a jurisdiction having no FEP agency. Charges over which a FEP agency has no jurisdiction over the statutory basis alleged are filed with the Commission upon receipt and are timely filed if received by the Commission within 180 days from the date of the alleged violation.

(3) Charges arising in jurisdictions having a FEP agency with jurisdiction over the statutory basis alleged in the charge are to be processed in accordance with the Commission's deferral policy set forth below and the procedures in paragraph (a)(4) of this section.

(4) The following procedures shall be followed with respect to charges which arise in jurisdictions having a FEP agency with jurisdiction over the statutory basis alleged in the charge:

(i) * * *

(A) The document shall reflect the date and time it was received by the EEOC.

(B) A copy of the original document shall be transmitted by registered mail, return receipt requested, to the appropriate FEP agency, or by any other means acceptable to the FEP agency. State or local proceedings are deemed to have commenced on the date such document is transmitted.

* * * * *

10. Amend § 1601.14(a) by revising the first two sentences to read as follows:

§ 1601.14 Service of charge or notice of charge.

(a) Within ten days after the filing of a charge in the appropriate Commission office, the Commission shall serve respondent the charge or a copy of the charge by digital transmission, by mail, or in person, except when it is determined that providing the charge or a copy of the charge would impede the law enforcement functions of the Commission. Where the charge or a copy of the charge is not provided, the respondent will be served with a notice of the charge within ten days after the filing of the charge. * * *

* * * * *

11. Amend § 1601.16 by revising paragraph (b)(1), and in paragraph (d), removing the word “Council” wherever it appears and adding in its place the word “Counsel.”

The revision reads as follows:

§ 1601.16 Access to and production of evidence; testimony of witnesses; procedure and authority.

* * * * *

(b)(1) Any person served with a district director-issued subpoena who intends not to comply shall petition the issuing director to seek its revocation or modification. Any person served with a Commissioner-issued subpoena who intends not to comply shall petition the General Counsel to seek its revocation or modification. Petitions must be mailed or transmitted digitally to the issuing director at the address stated on the subpoena (or, if the subpoena was issued by a Commissioner, to the General Counsel) within five days (excluding Saturdays, Sundays, and Federal legal holidays) after service of the subpoena. Petitions to the General Counsel pertaining to subpoenas issued by a Commissioner may be transmitted digitally or mailed to 131 M Street NE, Washington, DC 20507 and a copy of the petition shall also be served upon the issuing Commissioner.

* * * * *

12. Amend § 1601.18 by:

a. In paragraph (b), adding a new sentence after the first sentence; and

b. In paragraph (c), in the second sentence adding “, or their designees,” after “Local Directors”.

The addition reads as follows:

§ 1601.18 Dismissal: Procedure and authority.

* * * * *

(b) * * * The dismissal shall include a notice of rights informing the person claiming to be aggrieved or the person on whose behalf a charge was filed of the right to sue in Federal district court within 90 days of receipt of the determination.* * *

* * * * *

13. Revise § 1601.19 to read as follows:

§ 1601.19 No cause determinations: Procedure and authority.

(a) Where the Commission completes its investigation of a charge and finds that there is not reasonable cause to believe that an unlawful employment practice has occurred or is occurring as to all issues addressed in the determination, the Commission shall issue a determination to all parties to the charge indicating the finding. This determination does not mean the claims in the charge have no merit. The Commission's determination shall be the final determination of the Commission, unless a final determination of no reasonable cause is vacated pursuant to § 1601.19(b). The determination shall inform the person claiming to be aggrieved or the person on whose behalf a charge was filed of the right to sue in Federal district court within 90 days of receipt of the determination. The Commission hereby delegates authority to the Director of the Office of Field Programs, or upon delegation to the Director of Field Management Programs, and District Directors or upon delegation to Field Directors, Area Directors, or Local Directors, or their designees, except in those cases involving issues currently designated by the Commission for priority review, to issue no cause determinations.

(b) The Commission may on its own initiative reconsider a final determination of no reasonable cause and a director of the issuing office may, on his or her own initiative, reconsider a final determination of no reasonable cause. If the Commission or the director of the issuing office decides to reconsider a final no cause determination, a notice of intent to reconsider shall promptly issue to all parties to the charge. If such notice of intent to reconsider is issued within 90 days of receipt of the final no cause determination, and the person claiming to be aggrieved or the person on whose behalf a charge was filed has not filed suit and did not request and receive a notice of right to sue pursuant to § 1601.28(a)(1) or (2), the notice of intent to reconsider shall vacate the determination and shall revoke the charging party's right to bring suit within 90 days. If the 90-day suit period has expired, the charging party has filed suit, or the charging party had requested a notice of right to sue pursuant to § 1601.28(a)(1) or (2), the notice of intent to reconsider shall vacate the determination, but shall not revoke the charging party's right to sue within 90 days. After reconsideration, the Commission or a director of the issuing office shall issue a new determination. In those circumstances where the charging party's right to bring suit within 90 days was revoked, the determination shall include notice that a new 90-day suit period shall begin upon the charging party's receipt of the determination. Where a member of the Commission has filed a Commissioner charge, he or she shall abstain from making a determination in that case.

§ 1601.21 [Amended]

14. Amend § 1601.21(d) by removing the words “a copy of the determination” and adding in their place “the determination or a copy of the determination.”

15. Amend § 1601.28 by removing footnote 1 from paragraph (c) and revising paragraph (e)(3) to read as follows:

§ 1601.28 Notice of right to sue: Procedure and authority.

* * * * *

(e) * * *

(3) The charge or a copy of the charge;

* * * * *

16. Amend § 1601.70 by revising paragraph (a)(1) to read as follows:

§ 1601.70 FEP agency qualifications.

(a) * * *

(1) That the state or political subdivision has a fair employment practice law which makes unlawful employment practices based upon race, color, religion, sex, national origin, disability, or genetic information; and

* * * * *

17. Amend § 1601.75 by:

a. Revising paragraph (b)(2); and

b. In paragraph (c), by removing the word “cetification” and adding in its place the word “certification.”

The revision reads as follows:

§ 1601.75 Certification of designated FEP agencies

* * * * *

(b) * * *

(2) That the State or local designated FEP agency's work product has been evaluated within the past 12 months by State and Local Programs, Office of Field Programs, and found to be in conformance with the Commission's Substantial Weight Review Procedures.

§ 1601.76 [Amended]

18. Amend § 1601.76 by removing the words “(EEOC Order 916)”.

§ 1601.78 [Amended]

19. Amend § 1601.78, by removing the words “(EEOC Order 916)” in the introductory text.

PART 1626—PROCEDURES—AGE DISCRIMINATION IN EMPLOYMENT ACT

20. The authority citation for part 1626 continues to read as follows:

Authority: Sec. 9, 81 Stat. 605, 29 U.S.C. 628; sec. 2, Reorg. Plan No. 1 of 1978, 3 CFR 1978 Comp., p. 321.

21. Amend § 1626.3 by:

a. Designating the text as paragraph (a);

b. In newly redesignated paragraph (a), removing the words “For purpose of this part” and adding in their place the words “For the purposes of this part”; and

c. Adding a new paragraph (b).

The addition reads as follows:

§ 1626.3 Other definitions.

* * * * *

(b) For the purposes of this part, the terms file, serve, submit, receive, transmit, present, send, and notify shall include all forms of digital transmission.

22. Revise § 1626.5 to read as follows:

§ 1626.5 Where to submit complaints and charges.

Complaints and charges may be made through the EEOC's designated digital system, in person, by telephone, or by mail to any EEOC office or any designated representative of the Commission. The current addresses of the EEOC's offices appear at www.eeoc.gov.

23. Amend § 1626.7 by redesignating paragraphs (b)(1), (2), and (3) as paragraphs (b)(2), (3), and (4), and adding a new paragraph (b)(1) to read as follows:

§ 1626.7 Timeliness of charge.

* * * * *

(b) * * *

(1) Charges filed digitally: Date of transmission.

* * * * *

24. Amend § 1626.8 by revising paragraphs (a)(1) and (2), and adding new paragraphs (d) and (e) to read as follows:

§ 1626.8 Contents of charge; amendment of charge.

(a) * * *

(1) The full name and contact information of the person making the charge except as provided in § 1626.8(d);

(2) The full name and contact information of the person against whom the charge is made, if known (hereinafter referred to as the respondent);

* * * * *

(d) A charge that any person has engaged in or is engaging in an unlawful employment practice within the meaning of the ADEA may be made by or on behalf of any person claiming to be aggrieved. A charge on behalf of a person claiming to be aggrieved may be made by any person, agency, or organization. The written charge need not identify by name the person on whose behalf it is made. The person making the charge, however, must provide the Commission with the name and contact information of the person on whose behalf the charge is made. During the Commission investigation, Commission personnel shall verify the authorization of such charge by the person on whose behalf the charge is made. Any such person may request that the Commission shall keep his or her identity confidential. However, such request for confidentiality shall not prevent the Commission from disclosing the identity to Federal, State or local agencies that have agreed to keep such information confidential. If this condition is violated by a recipient agency, the Commission may decline to honor subsequent requests for such information.

(e) The person claiming to be aggrieved has the responsibility to provide the Commission with notice of a change in contact information so that he or she can be contacted when necessary during the Commission's consideration of the charge.

25. Amend § 1626.15 by revising the last sentence of paragraph (c), and in paragraph (e), removing the words “the Field Directors” and adding in their place the words “Field Directors, Area Directors, and Local Directors.”

The revision reads as follows:

§ 1626.15 Commission enforcement.

* * * * *

(c) * * * The signed agreement or a copy of the signed agreement shall be sent to all the signatories thereto.

* * * * *

§ 1626.16 [Amended]

26. Amend § 1626.16(b) by removing the words “the Field Directors” and adding in their place the words “Field Directors, Area Directors, and Local Directors”.

§ 1626.17 [Amended]

27. Amend § 1626.17(a)(2) by removing the words “or the Americans with Disabilities Act (ADA),” and adding in their place the words “or the Americans with Disabilities Act (ADA) or the Genetic Information Nondiscrimination Act (GINA)” and removing the words “or the ADA.” and adding in their place the words “, the ADA, or GINA.”.

[FR Doc. 2019-02664 Filed 2-21-19; 8:45 am]

BILLING CODE P